DEPARTMENT OF AGRICULTURE

Agricultural Marketing Service

[Doc. No. AMS-ST-22-0060]

Information Collection for National Science Laboratories

AGENCY: Agricultural Marketing Service, USDA.

ACTION: Notice and request for comments.

SUMMARY: In accordance with the Paperwork Reduction Act of 1995, this notice announces the Agricultural Marketing Service's (AMS) intention to request approval, from the Office of Management and Budget (OMB), for a new information collection “National Science Laboratories.”

DATES: Comments on this notice must be received by December 12, 2022 to be assured of consideration.

ADDRESSES: Interested persons are invited to submit comments concerning this notice by using the electronic process available at https://www.regulations.gov. All comments should reference the document number and the date and page number of this issue of the Federal Register. All comments submitted in response to this notice will be posted without change, including any personal information provided, at https://www.regulations.gov and will be included in the record and made available to the public.

FOR FURTHER INFORMATION CONTACT: Roger Simonds, National Science Laboratories, Laboratory Approval and Testing Division, Science & Technology Program, 801 Summit Crossing Place, Suite B, Gastonia, NC 28054; Phone: (704) 867-3873; or Email: NationalScienceLaboratories@usda.gov.

SUPPLEMENTARY INFORMATION:

Agency: USDA, AMS.

Title: National Science Laboratories.

OMB Number: 0581-NEW.

Type of Request: New Information Collection.

Abstract: This information collection is necessary to conduct voluntary analytical testing on a fee-for-service basis. The Agricultural Marketing Act of 1946, as amended (7 U.S.C. 1621-1627), authorizes the Agricultural Marketing Service, AMS' National Science Laboratories (NSL) to provide chemical, microbiological, and bio-molecular lab analytical testing services to facilitate domestic and international marketing of food and agricultural commodities. NSL is a fee-for-service lab network utilized by both industry and government and provides testing services for AMS commodity programs, other USDA agencies, Federal and State agencies, U.S. Military, research institutions, and private sector food and agricultural industries. Applicants voluntarily submit samples for analytical testing and pay testing fees. Regulations implementing the NSL program appear at 7 CFR part 91.

The information collected is information needed to perform analytical testing, issue a certificate/report of analytical results, and collect payment for services requested by the applicant. This includes information about applicant's business, sample(s) submitted, and the required test(s). AMS will collect business information on form ST-1, Application for Service. The information requested will be used by the Administrative Officer to identify the applicant in the billing system, to set up an account in the billing system and contact the party responsible for payment of testing fee.

Applicants, when submitting samples, provide sample information documentation needed to conduct analytical laboratory testing. This information can be submitted using documentation provided by the applicant or on form FRM-12, provided by NSL. Such information includes: Applicant contact information; Product description; Number of containers; Lot number or production date; Analyses requested; Any other information required by the applicant to be on the analytical certificate/report of analytical results. Information collection requirements in this request are essential to provide applicants with the service requested and administer the program.

Estimate of Burden: Public reporting burden for this collection of information is estimated to average 0.254 hours per response.

Respondents: Food and Agricultural Businesses.

Estimated Number of Respondents: 10,279.

Estimated Total Annual Responses: 10,279.

Estimated Number of Responses per Respondent: 1.0.

Estimated Total Annual Burden on Respondents: 2613.25 hours.

Comments are invited on: (1) whether the proposed collection of information is necessary for the proper performance of the functions of the agency, including whether the information will have practical utility; (2) the accuracy of the agency's estimate of the burden of the proposed collection of information including completion of analyses related documentation; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Melissa Bailey,
Associate Administrator, Agricultural Marketing Service.

[FR Doc. 2022-22137 Filed 10-11-22; 8:45 am]

BILLING CODE P